DEPARTMENT OF HEALTH AND HUMAN SERVICES

National Institutes of Health

National Center on Minority Health and Health Disparities; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center on Minority Health and Health Disparities Special Emphasis Panel, LRP for Health Disparities and Clinical Research-Panel B.

Date: April 29, 2007.

Time: 9 a.m. to 5 p.m.

Agenda: To review and evaluate grant applications.

Place: National Institutes of Health, 6707 Democracy Blvd./Suite 800, Bethesda, MD 20892, (Virtual Meeting).

Contact Person: Lorrita Watson, PhD, National Center on Minority Health, and Health Disparities, National Institutes of Health, 6707 Democracy Blvd., Suite 800, Bethesda, MD 20892-5465, (301) 402-1366, watsonl@ncmhd.nih.gov.

Name of Committee: National Center on Minority Health and Health Disparities Special Emphasis Panel, NCMHD Conference Grant Application (R13) Review.

Date: May 1, 2007.

Time: 8 a.m. to 5 p.m.

Agenda: To review and evaluate grant applications.

Place: National Institutes of Health, Two Democracy Plaza, 6707 Democracy Boulevard, Bethesda, MD 20892, (Virtual Meeting).

Contact Person: Robert Nettey, MD, Scientific Review Administrator, National Institute on Minority Health, and Health Disparities, 6707 Democracy Blvd., Suite 800, Bethesda, MD 20892, 301-496-3996.

Dated: March 21, 2007.
Jennifer Spaeth,
Director, Office of Federal Advisory Committee Policy.

[FR Doc. 07-1516 Filed 3-27-07; 8:45 am]

BILLING CODE 4140-01-M